DEPARTMENT OF TRANSPORTATION

Federal Aviation Administration

14 CFR Part 39

[Docket No. 2000-CE-48-AD]

RIN 2120-AA64

Airworthiness Directives; S.N. CENTRAIR Model 201B Sailplanes

AGENCY: Federal Aviation Administration, DOT.

ACTION: Notice of proposed rulemaking (NPRM).

SUMMARY: This document proposes to adopt a new airworthiness directive (AD) that would apply to all S.N. CENTRAIR Model 201B sailplanes. The proposed AD would require you to modify the rear canopy emergency release system. The proposed AD is the result of mandatory continuing airworthiness information (MCAI) issued by the airworthiness authority for France. The actions specified in the proposed AD are intended to prevent the rear canopy retaining strap from not releasing properly during the emergency egress procedure because of the current design of the rear canopy emergency release system. This condition, if not corrected, will not allow the rear canopy to completely separate from the sailplane and could result in potential injury to the pilot during an emergency egress.

DATES: The Federal Aviation Administration (FAA) must receive any comments on this proposed rule by October 31, 2000.

ADDRESSES: Send comments in triplicate to the FAA, Central Region, Office of the Regional Counsel, Attention: Rules Docket No. 2000-CE-48-AD, 901 Locust, Room 506, Kansas City, Missouri 64106. You may inspect comments at this location between 8 a.m. and 4 p.m., Monday through Friday, except holidays.

You may get service information that applies to the proposed AD from S.N. CENTRAIR, Aerodome—36300 Le Blanc, France; telephone: 02.54.37.07.96; facsimile: 02.54.37.48.64. You may read this information at the Rules Docket at the above address.

FOR FURTHER INFORMATION CONTACT: Mike Kiesov, Aerospace Engineer, FAA, Small Airplane Directorate, 901 Locust, Room 301, Kansas City, Missouri 64106; telephone: (816) 329-4144; facsimile: (816) 329-4090.

SUPPLEMENTARY INFORMATION:

Comments Invited

How do I comment on the proposed AD? The FAA invites comments on this proposed rule. You may submit whatever written data, views, or arguments you choose. You need to include the rule's docket number and submit your comments in triplicate to the address specified under the caption ADDRESSES. The FAA will consider all comments received on or before the closing date. We may amend the proposed rule in light of comments received. Factual information that supports your ideas and suggestions is extremely helpful in evaluating the effectiveness of the proposed AD action and determining whether we need to take additional rulemaking action.

Are there any specific portions of the proposed AD I should pay attention to? The FAA specifically invites comments on the overall regulatory, economic, environmental, and energy aspects of the proposed rule that might suggest a need to modify the rule. You may examine all comments we receive before and after the closing date of the rule in the Rules Docket. We will file a report in the Rules Docket that summarizes each FAA contact with the public that concerns the substantive parts of the proposed AD.

We are re-examining the writing style we currently use in regulatory documents, in response to the Presidential memorandum of June 1, 1998. That memorandum requires Federal agencies to communicate more clearly with the public. We are interested in your comments on whether the style of this document is clearer, and any other suggestions you might have to improve the clarity of FAA communications that affect you. You can get more information about the Presidential memorandum and the plain language initiative at http://www.plainlanguage.gov.

How can I be sure FAA receives my comment? If you want us to acknowledge the receipt of your comments, you must include a self-addressed, stamped postcard. On the postcard, write “Comments to Docket No. 2000-CE-48-AD.” We will date stamp and mail the postcard back to you.

Discussion

What events have caused this proposed AD? The Direction Ǵońorale de l'Aviation Civile (DGAC), which is the airworthiness authority for France, recently notified the FAA that an unsafe condition may exist on all S.N. CENTRAIR Model 201B sailplanes. The DGAC reports an incident where a Model 201B rear canopy strap did not properly release during an actual emergency egress.

The DGAC advises that the problem is related to the unreliability of the rear canopy from completely separating from the sailplane during an emergency egress procedure.

What are the consequences if the condition is not corrected? If the rear canopy retaining strap does not release properly during the emergency egress procedure, the rear canopy will not completely separate from the sailplane. This could result in potential injury to the pilot during an emergency egress.

Relevant Service Information

Is there service information that applies to this subject? S.N. CENTRAIR has issued Service Bulletin No. 201-16, Revision 1, dated December 12, 1999.

What are the provisions of this service bulletin? The service bulletin:

• Specifies the installation of a mechanism that automatically releases the rear canopy strap when the emergency canopy lever is actuated;

• Includes Process Sheet for Fitment of the Release Unit for the Rear Canopy Strap on Glider Centrair 201 “Marianne”, dated March 17, 1999. This document includes procedures for incorporating the modification; and

• Specifies an inspection to assure that this modification is accomplished correctly.

What actions did the DGAC take? The DGAC classified this service bulletin as mandatory and issued French AD Number 1995-055(A) R1, dated February 5, 2000, in order to assure the continued airworthiness of these sailplanes in France.

Was this in accordance with the bilateral airworthiness agreement? This sailplane model is manufactured in France and is type certificated for operation in the United States under the provisions of section 21.29 of the Federal Aviation Regulations (14 CFR 21.29) and the applicable bilateral airworthiness agreement. Pursuant to this bilateral airworthiness agreement, the DGAC has kept FAA informed of the situation described above.

The FAA's Determination and an Explanation of the Provisions of the Proposed AD

What has FAA decided? The FAA has examined the findings of the DGAC; reviewed all available information, including the service information referenced above; and determined that:

• The unsafe condition referenced in this document exists or could develop on other S.N. CENTRAIR Model 201B sailplanes of the same type design;

• The actions specified in the previously-referenced service information should be accomplished on the affected sailplanes, except for requiring an inspection to ensure that the modification is accomplished correctly and;

• AD action should be taken in order to correct this unsafe condition.

What does the proposed AD require? This proposed AD would require you to install a mechanism that automatically releases the rear canopy strap when the emergency canopy lever is actuated. Accomplishment of the proposed modification would be in accordance with the procedures in S.N. Centrair Process Sheet for Fitment of the Release Unit for the Rear Canopy Strap on Glider Centrair 201 “Marianne”, dated March 17, 1999 (or the instructions provided with the modification kit).

Cost Impact

How many sailplanes does the proposed AD impact? We estimate that the proposed AD affects 41 sailplanes in the U.S. registry.

What is the cost impact of the proposed AD on owners/operators of the affected sailplanes? We estimate the following costs to accomplish the proposed modification:

Labor cost | Parts cost per sailplane | Total cost per sailplane | Total cost on U.S. sailplane operators
4 workhours × $60 per hour = $240 | $150 | $390 | $15,990

Compliance Time of the Proposed AD

What is the compliance time of the proposed AD? The compliance time of this proposed AD is “within the next 3 months after the effective date of this AD.”

Why is the compliance time presented in calendar time instead of hours time-in-service (TIS)? Although the rear canopy retaining strap not releasing properly during the emergency egress procedure occurs during flight, the condition is not a direct result of sailplane operation. The chance of this situation occurring is the same for a sailplane with 10 hours TIS as it would be for a sailplane with 500 hours TIS. A calendar time for compliance will assure that the unsafe condition is addressed on all sailplanes in a reasonable time period.

What are the differences between the French AD and the proposed AD? The French AD requires installation of a mechanism that automatically releases the rear canopy strap when the emergency canopy lever is actuated. The French AD also requires a visual inspection to ensure that the modification is incorporated correctly.

The FAA does not require this inspection because we believe that the procedures are adequate to allow the maintenance personnel to accomplish the action correctly.

Regulatory Impact

Does this proposed AD impact various entities? The regulations proposed herein would not have a substantial direct effect on the States, on the relationship between the national government and the States, or on the distribution of power and responsibilities among the various levels of government. Therefore, it is determined that this proposed rule would not have federalism implications under Executive Order 13132.

Does this proposed AD involve a significant rule or regulatory action? For the reasons discussed above, I certify that this proposed action (1) is not a “significant regulatory action” under Executive Order 12866; (2) is not a “significant rule” under DOT Regulatory Policies and Procedures (44 FR 11034, February 26, 1979); and (3) if promulgated, will not have a significant economic impact, positive or negative, on a substantial number of small entities under the criteria of the Regulatory Flexibility Act. A copy of the draft regulatory evaluation prepared for this action has been placed in the Rules Docket. A copy of it may be obtained by contacting the Rules Docket at the location provided under the caption ADDRESSES.

List of Subjects in 14 CFR Part 39

Air transportation, Aircraft, Aviation safety, Safety.

The Proposed Amendment

Accordingly, under the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive (AD) to read as follows:

S.N. CENTRAIR: Docket No. 2000-CE-48-AD.

(a) What sailplanes are affected by this AD? This AD applies to Model 201B sailplanes, all serial numbers, certificated in any category.

(b) Who must comply with this AD? Anyone who wishes to operate any of the above sailplanes on the U.S. Register must comply with this AD.

(c) What problem does this AD address? The actions specified in this AD are intended to prevent the rear canopy retaining strap from not releasing properly during the emergency egress procedure because of the current design of the rear canopy emergency release system. This condition, if not corrected, will not allow the rear canopy to completely separate from the sailplane and could result in potential injury to the pilot during an emergency egress.

(d) What actions must I accomplish to address this problem? To address this problem, you must accomplish the following:

Actions | Compliance times | Procedures
(1) Install a mechanism that automatically releases the rear canopy strap when the emergency canopy lever is actuated | Within the next 3 months after the effective date of this AD | (i) Follow the procedures in S.N Centrair Process Sheet for Fitment of the Release Unit for the Rear Canopy Strap on Glider Centrair 201 “Marianne”, dated March 17, 1999 (or the instructions provided with the modification kit). (ii) The document specified above is referenced in S.N. CENTRAIR Service Bulletin No. 201-16, Revision 1, dated December 12, 1999. (iii) The inspection referenced in the service bulletin is not required by this AD.
(2) Do not install a rear canopy emergency release system without incorporating the modification referenced in paragraph (d)(1) of this AD | As of the effective date of this AD | Not Applicable.

(e) Can I comply with this AD in any other way? You may use an alternative method of compliance or adjust the compliance time if:

(1) Your alternative method of compliance provides an equivalent level of safety; and

(2) The Manager, Small Airplane Directorate approves your alternative. Send your request through an FAA Principal Maintenance Inspector, who may add comments and then send it to the Manager, Small Airplane Directorate, 901 Locust, Room 301, Kansas City, Missouri 64106.

Note 1: This AD applies to each sailplane identified in paragraph (a) of this AD, regardless of whether it has been modified, altered, or repaired in the area subject to the requirements of this AD. For sailplanes that have been modified, altered, or repaired so that the performance of the requirements of this AD is affected, the owner/operator must request approval for an alternative method of compliance in accordance with paragraph (e) of this AD. You should include in the request an assessment of the effect of the modification, alteration, or repair on the unsafe condition addressed by this AD; and, if you have not eliminated the unsafe condition, specific actions you propose to address it.

(f) Where can I get information about any already-approved alternative methods of compliance? You can contact Mike Kiesov, Aerospace Engineer, FAA, Small Airplane Directorate, 901 Locust, Room 301, Kansas City, Missouri 64106; telephone: (816) 329-4144; facsimile: (816) 329-4090.

(g) What if I need to fly the sailplane to another location to comply with this AD? The FAA can issue a special flight permit under sections 21.197 and 21.199 of the Federal Aviation Regulations (14 CFR 21.197 and 21.199) to operate your sailplane to a location where you can accomplish the requirements of this AD.

(h) How do I get copies of the documents referenced in this AD? You may obtain copies of the documents referenced in this AD from S.N. CENTRAIR, Aerodome—36300 Le Blanc, France; telephone: 02.54.37.07.96; facsimile: 02.54.37.48.64. You may read these documents at FAA, Central Region, Office of the Regional Counsel, 901 Locust, Room 506, Kansas City, Missouri 64106.

Note 2: The subject of this AD is addressed in French AD 1999-055(A)R1, dated February 5, 2000.

Issued in Kansas City, Missouri, on September 22, 2000.
Michael K. Dahl,
Acting Manager, Small Airplane Directorate, Aircraft Certification Service.

[FR Doc. 00-24982 Filed 9-28-00; 8:45 am]

BILLING CODE 4910-13-P